DEPARTMENT OF COMMERCE

National Oceanic and Atmospheric Administration

Federal Consistency Appeal by Millennium Pipeline Company From an Objection by the New York Department of State

AGENCY: National Oceanic and Atmospheric Administration (NOAA), Department of Commerce (Commerce).

ACTION: Supplemental notice of public hearing.

SUMMARY: This notice provides additional scheduling information concerning a public hearing to be held by the National Oceanic and Atmospheric Administration in Tarrytown, New York. The hearing involves an administrative appeal filed with the Department of Commerce by the Millenium Pipeline Company (Consistency Appeal of Millennium Pipeline Company, L.P.).

DATES: The hearing is scheduled to begin at 10 a.m. on November 13, 2002. Speaker registration begins at 9 a.m. on the day of the hearing. Public comments on the appeal must be received by December 2, 2002.

ADDRESSES: The public hearing and speaker registration will be held at the Hilton Tarrytown Hotel, 455 South Broadway, Tarrytown, New York. Written comments may be submitted at the hearing. All e-mail comments on issues relevant to the Secretary's decision of this appeal may be submitted to Millennium.comments@noaa.gov. Apart from the hearing, comments may also be sent by mail to the Office of the Assistant General Counsel for Ocean Services, National Oceanic and Atmospheric Administration, U.S. Department of Commerce, 1305 East-West Highway, Silver Spring, MD 20910. Materials from the appeal record will be available at the Internet site http://www.ogc.doc.gov/czma.htm and at the Office of the Assistant General Counsel for Ocean Services.

FOR FURTHER INFORMATION CONTACT: Karl Gleaves, Assistant General Counsel for Ocean Services, via email at gcos.inquiries@noaa.gov, or at 301-713-2967, extension 186.

SUPPLEMENTARY INFORMATION: The Millennium Pipeline Company filed an administrative appeal with the Department of Commerce, pursuant to the Coastal Zone Management Act of 1972, as amended, asking that the Secretary of Commerce override the State of New York's objection to Millennium's proposed natural gas pipeline. The pipeline would extend from the Canadian border in Lake Erie and cross the Hudson River, affecting the natural resources or land and water uses of New York's coastal zone.

On September 9, 2002, NOAA published a notice in the Federal Register announcing that it would hold a public hearing concerning the appeal. See 67 FR 57220. The notice provided information about the date and location of the hearing and indicated additional details would be forthcoming. This notice provides additional scheduling information for the hearing.

The hearing will begin at 10 a.m. at the Hilton Tarrytown Hotel, and continue throughout the day with afternoon and evening sessions. Intermissions are expected near noon and in the late afternoon (approximately 4:30 p.m.). In addition, a temporary recess may be scheduled for periods when all registered speakers have had an opportunity to testify. Speakers must register on the day of the hearing, on site, at the hotel. Registration of speakers will begin at 9 a.m. Each organization that registers should expect to receive a total of five minutes for its representatives to present oral comments. Individuals from the general public who register will receive approximately three minutes to speak. Speakers will be recognized in the order in which they register (a first-come-first-serve basis), alternating between individuals from the general public and those representing organizations. A specific period is also expected to be designated during the morning and afternoon sessions for remarks by elected officials.

Written comments may be submitted to NOAA at the hearing by any person in attendance. For submissions at the hearing, we request, but do not require, that you provide three copies for inclusion into the administrative record. Apart from the hearing, written comments may be submitted by e-mail to millennium.comments@noaa.gov or forwarded via mail to the Office of the Assistant General Counsel for Ocean Services. Comments must be received by December 2, 2002. Comments will be made available to the parties; they are also expected to be posted on the Department of Commerce website at http://www.ogc.doc.gov/czma.htm.

This hearing is being held to obtain information on issues the Secretary will likely consider in deciding Millennium's appeal. A summary of relevant issues as well as additional background on the appeal appears in the September 9, 2002, Federal Register announcement referenced above, a copy of which can be found on the Internet at http://www.ogc.doc.gov/czma.htm.

Questions concerning the hearing may be sent via email to gcos.inquiries@noaa.gov or made by telephone to 301 713-2967, extension 186.

[Federal Domestic Assistance Catalog No. 11.419 Coastal Zone Management Program Assistance.]
Dated: October 16, 2002.
James R. Walpole,
General Counsel.

[FR Doc. 02-26787 Filed 10-21-02; 8:45 am]

BILLING CODE 3510-08-M